DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Jones and NOAA Awards Nominations.

OMB Control Number: 0648-0598.

Form Number(s): NA.

Type of Request: Regular submission (revision and extension of a current information collection).

Number of Respondents: 13.

Average Hours per Response: 1.

Burden Hours: 13.

Needs and Uses: This request is for revision and extension of a currently approved information collection.

The 1990 reauthorization of the Coastal Zone Management Act (CZMA) authorized an awards program to “implement a program to promote excellence in coastal zone management by identifying and acknowledging outstanding accomplishments in the field.” As authorized in Section 314 of the CZMA, the Walter B. Jones Memorial Awards recognize three categories of excellence: Coastal Steward of the Year, Excellence in Local Government, and Excellence in Coastal and Marine Graduate Study. The CZMA authorizes NOAA to conduct public ceremonies to acknowledge such awards, which allows NOAA to fund invitational travel and purchase awards for the Jones Awards.

In conjunction with the Walter B. Jones Memorial Awards, NOAA instituted several additional categories of awards, to recognize additional contributions to ocean and coastal resource management, including Volunteer of the Year, Nongovernmental Organization of the Year, Excellence in Promoting Cultural and Ethnic Diversity (in honor of Secretary Ronald Brown), Excellence in Business Leadership, and the Susan Snow Cotter Award for Excellence in Ocean and Coastal Resource (NOAA re-named this award in honor of Susan Snow Cotter in 2007).

As part of conducting the awards program, NOAA will distribute a “Call for Nominations” to representatives from Federal, state, local and nongovernmental organizations and Members of Congress that work in, are knowledgeable of or benefit from, ocean and coastal resource management. Revision: The call for nominations brochure was digitalized in 2012 and is now emailed to NOAA constituents and available during the nomination period at http://oceanservice.noaa.gov/programs/ocrm/jones-noaa-awards.html.

Affected Public: State, local or tribal governments; not-for-profit institutions; federal government.

Frequency: Biannually.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: December 14, 2012.
Gwellnar Banks,
Management Analyst, Office of the Chief Information Officer.

[FR Doc. 2012-30535 Filed 12-18-12; 8:45 am]

BILLING CODE 3510-22-P